DEPARTMENT OF THE INTERIOR

Bureau of Land Management

[CO-930-1430-ET; COC-28245]

Public Land Order No. 7433; Partial Revocation of Two Secretarial Orders; Colorado

AGENCY: Bureau of Land Management, Interior.

ACTION: Public Land Order.

SUMMARY: This order partially revokes two Secretarial orders which withdrew National Forest System lands for the Bureau of Reclamation's Colorado-Big Thompson Project. These lands are no longer needed for reclamation purposes. This action will open 922.26 acres to such forms of disposition as may by law be made of National Forest System lands and to mining. The lands have been and will remain open to mineral leasing.

EFFECTIVE DATE: April 24, 2000.

FOR FURTHER INFORMATION CONTACT: Doris E. Chelius, BLM Colorado State Office, 2850 Youngfield Street, Lakewood, Colorado 80215, 303-239-3706.

By virtue of the authority vested in the Secretary of the Interior by Section 204 of the Federal Land Policy and Management Act of 1976, 43 U.S.C. (1994), it is ordered as follows:

1. The Secretarial Orders dated March 7, 1935, and July 24, 1937, which withdrew National Forest System lands for the Colorado-Big Thompson Reclamation Project, are hereby revoked insofar as they affect following described lands:

Sixth Principal Meridian

Arapaho National Forest

T. 1 N., R. 75 W.,

Sec. 13, lots 5, 6, 11, and 12;

Sec. 14, NE¼NE¼, SW¼NE¼, and SE¼NW¼.

T. 2 N., R. 75 W.,

Sec. 19, lots 1 to 4, inclusive, and E½W½;

Sec. 23, NE¼NE¼;

Sec. 31, N½SW¼NE¼, NE¼NW¼, W½NE¼SW¼, SE¼NE¼SW¼, and SW¼NW¼SE¼;

Sec. 32, lots 3 and 6, SW¼NW¼, NE¼SW¼, and SW¼SE¼.

The areas described aggregate 922.26 acres in Grand County.

2. At 9 a.m. on April 24, 2000, the lands shall be opened to such forms of disposition as may by law be made of National Forest System lands, including location and entry under the United States mining laws, subject to valid existing rights, the provisions of existing withdrawals, other segregations of record, and the requirements of applicable law. Appropriation of lands described in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determination in local courts.

Dated: March 10, 2000.
Kevin Gover,
Assistant Secretary of the Interior.

[FR Doc. 00-7292 Filed 3-23-00; 8:45 am]

BILLING CODE 4310-JB-P